DEPARTMENT OF JUSTICE

[OMB Number 1117-0051]

Agency Information Collection Activities; Proposed eCollection eComments Requested; Extension of a Previously Approved Collection Red Ribbon Week Patch

AGENCY: Drug Enforcement Administration, Department of Justice.

ACTION: 60-Day notice.

SUMMARY: The Department of Justice (DOJ), Drug Enforcement Administration (DEA), will be submitting the following information collection request to the Office of Management and Budget (OMB) for review and approval in accordance with the Paperwork Reduction Act of 1995. The proposed information collection is published to obtain comments from the public and affected agencies.

DATES: Comments are encouraged and will be accepted for 60 days until August 22, 2014.

FOR FURTHER INFORMATION CONTACT: If you have additional comments especially on the estimated public burden or associated response time, suggestions, or need a copy of the proposed information collection instrument with instructions or additional information, please contact Deb Augustine, Acting Chief, Demand Reduction Section, 8701 Morrissette Drive, Springfield, VA 22152 (phone: 202-307-4777).

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Extension of a previously approved collection.

2. The Title of the Form/Collection: Red Ribbon Week Patch Activity Report.

3. The agency form number, if any and the applicable component of the Department sponsoring the collection: The form number is DEA-316a. The applicable component within the Department of Justice is the Drug Enforcement Administration, Demand Reduction Section.

4. Affected public who will be asked or required to respond, as well as a brief abstract:

Primary: Boy Scout and Girl Scout Troop Leaders.

Other: None.

DEA is requesting approval of an extension, with change, to an existing collection that requests information from Boy/Girl Scout Troop Leaders who express an interest in participating in DEA Red Ribbon Week Activities. This information is then used to mail patches to participants as indication of completion of the suggested activities.

5. An estimate of the total number of respondents and the amount of time estimated for an average respondent to respond: An estimated 450 Boy/Girl Scout troop leaders will take part in the Red Ribbon Week Patch activities. It is estimated that it will take 10 minutes to complete the DEA-316a, DEA Red Ribbon Week Patch Activity Report.

6. An estimate of the total public burden (in hours) associated with the collection: The estimated public burden associated with this collection is 75 hours.

If additional information is required contact: Jerri Murray, Department Clearance Officer, United States Department of Justice, Justice Management Division, Policy and Planning Staff, Two Constitution Square, 145 N Street NE., 3E.405B, Washington, DC 20530.

Dated: June 18, 2014.
Jerri Murray,
Department Clearance Officer for PRA, U.S. Department of Justice.

[FR Doc. 2014-14580 Filed 6-20-14; 8:45 am]

BILLING CODE 4410-09-P